DEPARTMENT OF HEALTH AND HUMAN SERVICES

Centers for Disease Control and Prevention

[60Day-18-18AG; Docket No. CDC-2017-0095]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed work and/or continuing information collections, as required by the Paperwork Reduction Act of 1995. This notice invites comment on the Evaluation of the Cancer Survivorship Demonstration Project. This information collection aims to help CDC better understand strategies and best practices to identify and address current cancer survivorship needs and gaps.

DATES: CDC must receive written comments on or before January 12, 2018.

ADDRESSES: You may submit comments, identified by Docket No. CDC-2017-0095 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE., MS-D74, Atlanta, Georgia 30329; phone: 404-639-7570; Email: omb@cdc.gov.

SUPPLEMENTARY INFORMATION:

Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Evaluation of the Cancer Survivorship Demonstration Project—New—National Center for Chronic Disease Prevention and Health Promotion (NCCDPHP), Centers for Disease Control and Prevention (CDC).

Background and Brief Description

Under CDC's National Comprehensive Cancer Control Program (NCCCP) Request for Applications DP5-1501, the Division of Cancer Prevention and Control (DCPC) funded six grantees to implement evidence-based and promising strategies to increase knowledge of cancer survivor needs, increase survivor knowledge of treatment and follow-up care, and increase provider knowledge of guidelines pertaining to treatment of cancer. Specifically, this initiative employs strategies that relate to increasing surveillance and community-clinical linkages. Through this initiative, DCPC intends to help address the public health needs of cancer survivors. To facilitate evidence-informed policymaking and quality improvement of federal programs, CDC needs a comprehensive evaluation to characterize survivorship interventions and document outcomes.

CDC seeks to request OMB approval to collect information needed for this evaluation. The proposed information collection will focus on how each grantee has expanded their knowledge of cancer survivor needs, increased utilization of surveillance data to inform program planning by providers and coalition members, and enhanced partnerships to facilitate and broaden program reach. CDC will also collect data on challenges encountered and addressed, factors that facilitated implementation, and lessons learned along the way. The requested information does not currently exist for organizations and entities working to improve cancer survivorship needs. With this data, CDC will gain critical insights for improving achieving immediate strategic efforts and goals to improve the public health needs of cancer survivors.

CDC plans to collect information during two cycles of the program using a Web-based Grantee survey of NCCCP DP15-1501 grantee program directors and program managers, a Web-based Partner Survey of grantees' self-identified key partners (e.g., coalition members, providers, patient navigators), and semi-structured telephone interviews with NCCCP DP15-1501 grantee program directors and program managers. The data from the survey and semi-structured interviews will provide additional insight into program efforts.

CDC is requesting OMB approval to conduct a Web-based Grantee survey using Survey Gizmo to a purposive sample of one program director and one program manager for each of the six grantee sites (12 respondents total) and to conduct a Web-based Partner Survey of 10 self-identified key partners in each of 6 grantees for a total of 60 respondents. CDC will administer the Web-based surveys to the same respondents at two time points for a total estimated burden of 8 hours for the Web-based Grantee Survey and 40 hours for the Web-based Partner Survey.

CDC will ask the respondents to provide information regarding the type of respondent; their use of surveillance data to inform survivorship interventions; communication, education, and training activities to support the implementation of survivorship interventions; partnership engagement; challenges and facilitators regarding the implementation of evidence-based cancer survivorship strategies; reach of cancer survivorship interventions; and respondent background information.

CDC intends to also seek OMB approval to conduct semi-structured interviews by telephone with a purposive sample of one program director and one program manager for each of the six grantee sites (12 respondents total). CDC will conduct the semi-structured interviews with the same respondents at two time points for a total estimated burden of 36 hours.

CDC will ask the respondents to provide information on the following: (1) Administration of the Behavioral Risk Factor Surveillance System Cancer Survivorship Module; (2) communication, education, and training activities to support the implementation of cancer survivorship interventions; (3) community clinical linkage strategies to support cancer survivors, knowledge regarding best practices for survivorship care; partnership engagement; (4) dissemination of evidence-based survivorship interventions; and (5) recommendations for improving the implementation of evidence-based survivorship interventions.

CDC will analyze the collected information and use in aggregate to inform future efforts to support cancer survivors and to initiate evidence-informed program decisions when rolling this initiative out to all NCCCP grantees. Without this data collection, CDC will not be able to provide tailored technical assistance to its grantees and communicate program efforts.

Estimated Annualized Burden Hours
Type of respondent | Form name | Number of respondents | Number of responses per respondent | Average burden per response (in hours) | Total burden (in hours)
NCCCP Grantee Program Director | Web-based Grantee survey | 12 | 2 | 20/60 | 8
| Semi-structured telephone interview | 12 | 2 | 1.50 | 36
NCCCP Grantee Partner | Web-based Partner survey | 60 | 2 | 20/60 | 40
Total |  |  |  |  | 84

Leroy A. Richardson,
Chief, Information Collection Review Office, Office of Scientific Integrity, Office of the Associate Director for Science, Office of the Director, Centers for Disease Control and Prevention.

[FR Doc. 2017-24523 Filed 11-9-17; 8:45 am]

BILLING CODE 4163-18-P